NUCLEAR REGULATORY COMMISSION

[Docket No. 40-9067; NRC-2015-0199]

Uranerz Energy Corporation; Jane Dough Unit

AGENCY: Nuclear Regulatory Commission.

ACTION: Environmental assessment and finding of no significant impact; issuance.

SUMMARY: The U.S. Nuclear Regulatory Commission (NRC) is considering an amendment of License SUA-1597, to expand operations to the Jane Dough Unit at Uranerz Energy Corporation (Uranerz) Nichols Ranch In Situ Recovery (ISR) Facility (Docket No. 40-9067). The NRC has prepared an environmental assessment (EA) and finding of no significant impact (FONSI) for this licensing action.

DATES: The EA and FONSI referenced in this document is available on March 22, 2017.

ADDRESSES: Please refer to Docket ID NRC-2015-0199 when contacting the NRC about the availability of information regarding this document. You may obtain publicly-available information related to this document using any of the following methods:

• Federal Rulemaking Web site: Go to http://www.regulations.gov and search for Docket ID NRC-2015-0199. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or via email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Ashley Waldron, Office of Nuclear Material Safety and Safeguards, U.S. Nuclear Regulatory Commission, Washington, DC 20555-0001; telephone: 301-415-7317; email: Ashley.Waldron@nrc.gov.

SUPPLEMENTARY INFORMATION:

I. Introduction

The NRC is considering issuance of an amendment of License SUA-1597 issued to Uranerz, for operation of the Jane Dough Unit, located in Wyoming, Johnson and Campbell Counties. Therefore, as required by part 51 of title 10 of the Code of Federal Regulations (10 CFR), the NRC performed an EA. Based on the results of the EA that follows, the NRC has determined not to prepare an environmental impact statement (EIS) for the amendment, and is issuing a FONSI.

II. Environmental Assessment

Description of the Proposed Action

The proposed action would allow Uranerz to construct, operate, perform aquifer restoration, and decommissioning activities at the Jane Dough Unit. The proposed action is in accordance with the licensee's application dated May 8, 2014 (ADAMS Accession No. ML14164A274), as supplemented by letter dated April 13, 2015 (ADAMS Accession No. ML15118A122).

Need for the Proposed Action

The proposed action allows Uranerz to recover uranium within the proposed Jane Dough Unit. The licensee would process the recovered uranium into yellowcake at the existing central processing plant currently located on the Nichols Ranch Unit. Yellowcake is the uranium oxide product of the ISR milling process that is used to produce various products, including fuel for commercially-operated nuclear power reactors.

Environmental Impacts of the Proposed Action

The NRC staff has assessed the potential environmental impacts from the construction, operation, aquifer restoration, and decommissioning of the proposed Jane Dough Unit. The NRC staff assessed the impacts of the proposed action on land use; historical and cultural resources; visual and scenic resources; climatology, meteorology and air quality; geology, minerals, and soils; water resources; ecological resources; socioeconomics; noise; traffic and transportation; public and occupational health and safety; and waste management. All impacts were determined to be SMALL. The NRC staff concluded that license amendment for the Nichols Ranch ISR project license authorizing the construction and operation of the Jane Dough Unit would not significantly affect the quality of the human health, safety, and environment. Approval of the proposed action would not result in an increased radiological risk to public health or the environment.

Environmental Impacts of the Alternatives to the Proposed Action

As an alternative to the proposed action, the NRC staff considered denial of the proposed action (i.e., the “no-action” alternative). The No-Action Alternative would mean that the NRC would not approve the addition of the Jane Dough Unit to the existing Nichols Ranch licensed permit area. In-situ recovery activities would not occur within the Jane Dough Unit and the associated environmental impacts also would not occur.

Agencies and Persons Consulted

In accordance with its stated policy, on December 20, 2016, the NRC staff consulted with the Wyoming Department of Environmental Quality, regarding the environmental impact of the proposed action. The state official concurred with the EA and FONSI on January 25, 2017.

Additional Information

The NRC received an application from Uranerz to amend its NRC source materials license SUA-1597. This application requests authorization for Uranerz to construct and operate ISR activities at the Jane Dough unit in Campbell County and Johnson County, Wyoming. The NRC staff is conducting an environmental review in accordance with part 51 of title 10 of the Code of Federal Regulations (10 CFR), which implements the requirements of the National Environmental Policy Act of 1969, as amended (NEPA). Based on the results of the EA that follows, the NRC staff has determined not to prepare an EIS for the Jane Dough amendment and is issuing a FONSI.

Under the NRC's environmental protection regulations in 10 CFR part 51, an EA was prepared.

In May 2009, the NRC staff issued NUREG-1910, “Generic Environmental Impact Statement for In-Situ Leach Uranium Milling Facilities” (herein referred to as the GEIS). In the GEIS, the NRC assessed the potential environmental impacts from construction, operation, aquifer restoration, and decommissioning of an in situ leach uranium milling facility (also known as an ISR facility) located in four specific geographic regions of the western United States. In January 2011, the NRC staff prepared Supplement 2 to the GEIS for the Nichols Ranch ISR facility, the Jane Dough amendment is an expansion to that facility.

This EA incorporates by reference relevant portions from the Nichols Ranch Supplemental Environmental Impact Statement (SEIS) and GEIS, and uses site-specific information from Uranerz license application and independent sources to fulfill the requirements in 10 CFR 51.20(b)(8).

The final EA was prepared by the NRC and its contractor, the Center for Nuclear Waste Regulatory Analyses, in compliance with NEPA (as amended), and the NRC's regulations for implementing NEPA (10 CFR part 51).

The proposed Jane Dough Unit would be located in Johnson and Campbell Counties, Wyoming, and would encompass approximately 1489 hectares (3,680 acres).

In this final EA, the NRC staff has assessed the potential environmental impacts from the construction, operation, aquifer restoration, and decommissioning of the proposed Jane Dough Unit. The NRC staff assessed the impacts of the proposed action on land use; historical and cultural resources; visual and scenic resources; climatology, meteorology and air quality; geology, minerals, and soils; water resources; ecological resources; socioeconomics; noise; traffic and transportation; public and occupational health and safety; and waste management.

In doing so, the NRC staff evaluated site-specific data and information from the Jane Dough Unit to determine if Uranerz proposed activities and the site characteristics were consistent with those evaluated in the Nichols Ranch SEIS. The NRC then determined which relevant sections of, and impact conclusions in, the SEIS could be incorporated by reference. The NRC staff also determined if additional data or analysis was needed to assess the potential environmental impacts for a specific environmental resource area. The NRC documented its assessments and conclusions in the final EA.

In addition to the action proposed by the licensee, the NRC staff addressed the no-action alternative which serves as a baseline for comparison of the potential environmental impacts of the proposed action.

After weighing the impacts of the proposed license amendment and comparing to the No-Action Alternative, the NRC staff, in accordance with 10 CFR 51.91(d), sets forth its NEPA recommendation regarding the proposed action (granting the request for an NRC license amendment for the proposed Jane Dough Unit). Unless safety issues mandate otherwise, the NRC staff recommendation related to the environmental aspects of the proposed action is that an NRC license amendment be issued.

The final EA for the proposed Jane Dough Unit is available in ADAMS under Accession No. ML17047A666.

III. Finding of No Significant Impact

Based on its review of the proposed action, and in accordance with the requirements in 10 CFR part 51, the NRC staff has determined that license amendment for the Nichols Ranch ISR project license authorizing the construction and operation of the Jane Dough Unit would not significantly affect the quality of the human health, safety, and environment. In its license amendment request, Uranerz has proposed the addition of two production units on the Jane Dough Unit, which is contiguous with the Nichols Ranch Unit. No significant changes in Uranerz's authorized operations for the Nichols Ranch ISR Project were requested. Approval of the proposed action would not result in an increased radiological risk to public health or the environment. The NRC staff has determined that pursuant to 10 CFR 51.31, preparation of an EIS is not required for the proposed action and, pursuant to 10 CFR 51.32, a FONSI is appropriate.

On the basis of the EA, the NRC concludes that the proposed action will not have a significant effect on the quality of the human environment. Accordingly, the NRC has determined not to prepare an EIS for the proposed action.

Dated at Rockville, Maryland, this 10th day of March 2017.
For the U.S. Nuclear Regulatory Commission.
Brian W. Smith,
Deputy Director, Division of Fuel Cycle Safety, Safeguards, and Environmental Review, Office of Nuclear Material Safety and Safeguards.

[FR Doc. 2017-05691 Filed 3-21-17; 8:45 am]

BILLING CODE 7590-01-P